DEPARTMENT OF HOMELAND SECURITY

Federal Emergency Management Agency

44 CFR Part 64

[Docket ID FEMA-2008-0020; Internal Agency Docket No. FEMA-8081]

Suspension of Community Eligibility

AGENCY: Federal Emergency Management Agency, DHS.

ACTION: Final rule.

SUMMARY: This rule identifies communities, where the sale of flood insurance has been authorized under the National Flood Insurance Program (NFIP), that are scheduled for suspension on the effective dates listed within this rule because of noncompliance with the floodplain management requirements of the program. If the Federal Emergency Management Agency (FEMA) receives documentation that the community has adopted the required floodplain management measures prior to the effective suspension date given in this rule, the suspension will not occur and a notice of this will be provided by publication in the Federal Register on a subsequent date.

DATES: Effective Dates: The effective date of each community's scheduled suspension is the third date (“Susp.”) listed in the third column of the following tables.

FOR FURTHER INFORMATION CONTACT: If you want to determine whether a particular community was suspended on the suspension date or for further information, contact David Stearrett, Mitigation Directorate, Federal Emergency Management Agency, 500 C Street, SW., Washington, DC 20472, (202) 646-2953.

SUPPLEMENTARY INFORMATION: The NFIP enables property owners to purchase flood insurance which is generally not otherwise available. In return, communities agree to adopt and administer local floodplain management aimed at protecting lives and new construction from future flooding. Section 1315 of the National Flood Insurance Act of 1968, as amended, 42 U.S.C. 4022, prohibits flood insurance coverage as authorized under the NFIP, 42 U.S.C. 4001 et seq., unless an appropriate public body adopts adequate floodplain management measures with effective enforcement measures. The communities listed in this document no longer meet that statutory requirement for compliance with program regulations, 44 CFR part 59. Accordingly, the communities will be suspended on the effective date in the third column. As of that date, flood insurance will no longer be available in the community. However, some of these communities may adopt and submit the required documentation of legally enforceable floodplain management measures after this rule is published but prior to the actual suspension date. These communities will not be suspended and will continue their eligibility for the sale of insurance. A notice withdrawing the suspension of the communities will be published in the Federal Register.

In addition, FEMA has identified the Special Flood Hazard Areas (SFHAs) in these communities by publishing a Flood Insurance Rate Map (FIRM). The date of the FIRM, if one has been published, is indicated in the fourth column of the table. No direct Federal financial assistance (except assistance pursuant to the Robert T. Stafford Disaster Relief and Emergency Assistance Act not in connection with a flood) may legally be provided for construction or acquisition of buildings in identified SFHAs for communities not participating in the NFIP and identified for more than a year on FEMA's initial flood insurance map of the community as having flood-prone areas (section 202(a) of the Flood Disaster Protection Act of 1973, 42 U.S.C. 4106(a), as amended). This prohibition against certain types of Federal assistance becomes effective for the communities listed on the date shown in the last column. The Administrator finds that notice and public comment under 5 U.S.C. 553(b) are impracticable and unnecessary because communities listed in this final rule have been adequately notified.

Each community receives 6-month, 90-day, and 30-day notification letters addressed to the Chief Executive Officer stating that the community will be suspended unless the required floodplain management measures are met prior to the effective suspension date. Since these notifications were made, this final rule may take effect within less than 30 days.

National Environmental Policy Act. This rule is categorically excluded from the requirements of 44 CFR part 10, Environmental Considerations. No environmental impact assessment has been prepared.

Regulatory Flexibility Act. The Administrator has determined that this rule is exempt from the requirements of the Regulatory Flexibility Act because the National Flood Insurance Act of 1968, as amended, 42 U.S.C. 4022, prohibits flood insurance coverage unless an appropriate public body adopts adequate floodplain management measures with effective enforcement measures. The communities listed no longer comply with the statutory requirements, and after the effective date, flood insurance will no longer be available in the communities unless remedial action takes place.

Regulatory Classification. This final rule is not a significant regulatory action under the criteria of section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

Paperwork Reduction Act. This rule does not involve any collection of information for purposes of the Paperwork Reduction Act, 44 U.S.C. 3501 et seq.

List of Subjects in 44 CFR Part 64

Flood insurance, Floodplains.

Accordingly, 44 CFR part 64 is amended as follows:

PART 64—[AMENDED]

1. The authority citation for part 64 continues to read as follows:

Authority: 42 U.S.C. 4001 et seq.; Reorganization Plan No. 3 of 1978, 3 CFR, 1978 Comp.; p. 329; E.O. 12127, 44 FR 19367, 3 CFR, 1979 Comp.; p. 376.

§ 64.6 [Amended]

2. The tables published under the authority of § 64.6 are amended as follows:

State and location | Community No. | Effective date authorization/cancellation of sale of flood insurance in community | Current effective map date | Date certain Federal assistance no longer available in SFHAs
Region I
Massachusetts:
Acushnet, City of, Bristol County | 250048 | April 3, 1981, Emerg; July 19, 1982, Reg; July 7, 2009, Susp | July 7, 2009 | July 7, 2009.
Attleboro, City of, Bristol County | 250049 | August 16, 1974, Emerg; September 29, 1978, Reg; July 7, 2009, Susp | ......do* | Do.
Berkley, Town of, Bristol County | 250050 | February 19, 1974, Emerg; July 3, 1978, Reg; July 7, 2009, Susp | ......do | Do.
Dartmouth, Town of, Bristol County | 250051 | September 10, 1971, Emerg; August 15, 1977, Reg; July 7, 2009, Susp | ......do | Do.
Dighton, Town of, Bristol County | 250052 | March 9, 1973, Emerg; June 18, 1980, Reg; July 7, 2009, Susp | ......do | Do.
Easton, Town of, Bristol County | 250053 | August 15, 1974, Emerg; February 3, 1982, Reg; July 7, 2009, Susp | ......do | Do.
Fairhaven, Town of, Bristol County | 250054 | October 8, 1971, Emerg; March 16, 1976, Reg; July 7, 2009, Susp | ......do | Do.
Fall River, City of, Bristol County | 250055 | September 14, 1977, Emerg; September 30, 1981, Reg; July 7, 2009, Susp | ......do | Do.
Freetown, Town of, Bristol County | 250056 | August 11, 1975, Emerg; June 18, 1980, Reg; July 7, 2009, Susp | ......do | Do.
Mansfield, Town of, Bristol County | 250057 | January 28, 1972, Emerg; April 1, 1977, Reg; July 7, 2009, Susp | ......do | Do.
New Bedford, City of, Bristol County | 255216 | February 25, 1972, Emerg; July 6, 1973, Reg; July 7, 2009, Susp | ......do | Do.
North Attleborough, Town of, Bristol County | 250059 | February 10, 1975, Emerg; September 14, 1979, Reg; July 7, 2009, Susp | ......do | Do.
Norton, Town of, Bristol County | 250060 | March 20, 1974, Emerg; June 1, 1979, Reg; July 7, 2009, Susp | ......do | Do.
Raynham, Town of, Bristol County | 250061 | June 23, 1975, Emerg; July 2, 1980, Reg; July 7, 2009, Susp | ......do | Do.
Rehoboth, Town of, Bristol County | 250062 | February 11, 1972, Emerg; September 1, 1977, Reg; July 7, 2009, Susp | ......do | Do.
Salisbury, Town of, Bristol County | 250103 | November 17, 1972, Emerg; May 2, 1977, Reg; July 7, 2009, Susp | ......do | Do.
Seekonk, Town of, Bristol County | 250063 | July 25, 1975, Emerg; September 5, 1979, Reg; July 7, 2009, Susp | ......do | Do.
Somerset, Town of, Bristol County | 255220 | November 13, 1970, Emerg; March 17, 1972, Reg; July 7, 2009, Susp | ......do | Do.
Swansea, Town of, Bristol County | 255221 | June 12, 1970, Emerg; August 6, 1971, Reg; July 7, 2009, Susp | ......do | Do.
Taunton, City of, Bristol County | 250066 | June 11, 1973, Emerg; June 18, 1980, Reg; July 7, 2009, Susp | ......do | Do.
Westport, Town of, Bristol County | 255224 | August 7, 1970, Emerg; July 16, 1971, Reg; July 7, 2009, Susp | ......do | Do.
Maine:
Andover, Town of, Oxford County | 230160 | October 31, 1975, Emerg; January 3, 1985, Reg; July 7, 2009, Susp | ......do | Do.
Bethel, Town of, Oxford County | 230088 | August 18, 1975, Emerg; May 2, 1991, Reg; July 7, 2009, Susp | ......do | Do.
Buckfield, Town of, Oxford County | 230090 | August 5, 1975, Emerg; November 1, 1985, Reg; July 7, 2009, Susp | ......do | Do.
Byron, Town of, Oxford County | 230330 | July 15, 1975, Emerg; September 4, 1985, Reg; July 7, 2009, Susp | ......do | Do.
Canton, Town of, Oxford County | 230091 | July 3, 1975, Emerg; November 3, 1989, Reg; July 7, 2009, Susp | ......do | Do.
Denmark, Town of, Oxford County | 230476 | May 7, 1976, Emerg; July 2, 1980, Reg; July 7, 2009, Susp | ......do | Do.
Dixfield, Town of, Oxford County | 230092 | June 23, 1975, Emerg; March 4, 1985, Reg; July 7, 2009, Susp | ......do | Do.
Fryeburg, Town of, Oxford County | 230093 | April 7, 1975, Emerg; July 16, 1980, Reg; July 7, 2009, Susp | ......do | Do.
Greenwood, Town of, Oxford County | 230332 | June 24, 1976, Emerg; September 4, 1985, Reg; July 7, 2009, Susp | ......do | Do.
Hanover, Town of, Oxford County | 230333 | August 11, 1975, Emerg; September 4, 1985, Reg; July 7, 2009, Susp | ......do | Do.
Hartford, Town of, Oxford County | 230334 | May 21, 1976, Emerg; November 1, 1985, Reg; July 7, 2009, Susp | ......do | Do.
Hebron, Town of, Oxford County | 230335 | April 21, 1976, Emerg; December 31, 1976, Reg; July 7, 2009, Susp | ......do | Do.
Hiram, Town of, Oxford County | 230094 | July 30, 1975, Emerg; February 1, 1980, Reg; July 7, 2009, Susp | ......do | Do.
Lovell, Town of, Oxford County | 230336 | July 15, 1975, Emerg; February 17, 1989, Reg; July 7, 2009, Susp | ......do | Do.
Mexico, Town of, Oxford County | 230095 | November 17, 1972, Emerg; August 15, 1977, Reg; July 7, 2009, Susp | ......do | Do.
Milton, Township of, Oxford County | 230460 | March 19, 1975, Emerg; April 17, 1987, Reg; July 7, 2009, Susp | ......do | Do.
Newry, Town of, Oxford County | 230337 | December 30, 1975, Emerg; September 4, 1985, Reg; July 7, 2009, Susp | ......do | Do.
Norway, Town of, Oxford County | 230096 | November 11, 1974, Emerg; September 4, 1991, Reg; July 7, 2009, Susp | ......do | Do.
Otisfield, Town of, Oxford County | 230203 | January 29, 1976, Emerg; May 19, 1981, Reg; July 7, 2009, Susp | ......do | Do.
Oxford, Town of, Oxford County | 230869 | July 16, 1975, Emerg; May 2, 1991, Reg; July 7, 2009, Susp | ......do | Do.
Paris, Town of, Oxford County | 230097 | February 28, 1975, Emerg; September 27, 1991, Reg; July 7, 2009, Susp | ......do | Do.
Peru, Town of, Oxford County | 230098 | October 24, 1975, Emerg; May 17, 1990, Reg; July 7, 2009, Susp | ......do | Do.
Porter, Town of, Oxford County | 230338 | October 7, 1976, Emerg; December 4, 1979, Reg; July 7, 2009, Susp | ......do | Do.
Roxbury, Town of, Oxford County | 230181 | October 24, 1975, Emerg; September 4, 1985, Reg; July 7, 2009, Susp | ......do | Do.
Rumford, Town of, Oxford County | 230099 | March 9, 1973, Emerg; July 16, 1980, Reg; July 7, 2009, Susp | ......do | Do.
Stoneham, Town of, Oxford County | 230340 | October 1, 1975, Emerg; January 3, 1986, Reg; July 7, 2009, Susp | ......do | Do.
Stow, Town of, Oxford County | 230186 | February 20, 1976, Emerg; November 14, 1978, Reg; July 7, 2009, Susp | ......do | Do.
Sumner, Town of, Oxford County | 230187 | August 5, 1975, Emerg; September 27, 1985, Reg; July 7, 2009, Susp | ......do | Do.
Sweden, Town of, Oxford County | 230341 | July 22, 1975, Emerg; October 31, 1978, Reg; July 7, 2009, Susp | ......do | Do.
Region III
Virginia:
Brunswick County, Unincorporated Areas | 510236 | April 4, 1974, Emerg; February 6, 1991, Reg; July 7, 2009, Susp | ......do | Do.
Emporia, City of, Independent City | 510047 | February 5, 1974, Emerg; September 30, 1977, Reg; July 7, 2009, Susp | ......do | Do.
Greensville County, Unincorporated Areas | 510073 | February 25, 1974, Emerg; September 29, 1978, Reg; July 7, 2009, Susp | ......do | Do.
Jarratt, Town of, Greensville County | 510263 | March 5, 1975, Emerg; October 8, 1982, Reg; July 7, 2009, Susp | ......do | Do.
Lawrenceville, Town of, Brunswick County | 510023 | May 28, 1974, Emerg; July 17, 1978, Reg; July 7, 2009, Susp | ......do | Do.
Stony Creek, Town of, Sussex County | 510159 | April 9, 1974, Emerg; September 16, 1982, Reg; July 7, 2009, Susp | ......do | Do.
Sussex County, Unincorporated Areas | 510192 | December 11, 1973, Emerg; March 2, 1983, Reg; July 7, 2009, Susp | ......do | Do.
West Virginia: Berkeley County, Unincorporated Areas | 540282 | July 29, 1975, Emerg; August 4, 1988, Reg; July 7, 2009, Susp | ......do | Do.
Region IV
Alabama:
Ardmore, Town of, Limestone County | 010306 | July 9, 1979, Emerg; April 15, 1986, Reg; July 7, 2009, Susp | ......do | Do.
Athens, City of, Limestone County | 010146 | April 11, 1974, Emerg; September 28, 1979, Reg; July 7, 2009, Susp | ......do | Do.
Limestone County, Unincorporated Areas | 010307 | September 2, 1975, Emerg; July 16, 1981, Reg; July 7, 2009, Susp | ......do | Do.
Mooresville, Town of, Limestone County | 010455 | December 23, 2008, Emerg; NA, Reg; July 7, 2009, Susp | ......do | Do.
Kentucky: Liberty, City of, Cassey County | 210054 | May 12, 1975, Emerg; July 3, 1986, Reg; July 7, 2009, Susp | ......do | Do.
North Carolina:
Cajahs Mountain, Town of, Caldwell County | 370452 | NA, Emerg; March 6, 1990, Reg; July 7, 2009, Susp | ......do | Do.
Caldwell County, Unincorporated Areas | 370039 | June 19, 1978, Emerg; August 16, 1988, Reg; July 7, 2009, Susp | ......do | Do.
Gamewell, Town of, Caldwell County | 370451 | NA, Emerg; February 15, 2000, Reg; July 7, 2009, Susp | ......do | Do.
Granite Falls, Town of, Caldwell County | 370414 | August 9, 1988, Emerg; August 16, 1988, Reg; July 7, 2009, Susp | ......do | Do.
Hudson, Town of, Caldwell County | 370450 | NA, Emerg; March 6, 1990, Reg; July 7, 2009, Susp | ......do | Do.
Lenoir, City of, Caldwell County | 370040 | March 29, 1978, Emerg; August 16, 1988, Reg; July 7, 2009, Susp | ......do | Do.
Region V
Ohio:
Centerburg, Village of, Knox County | 390307 | June 27, 1975, Emerg; January 6, 1982, Reg; July 7, 2009, Susp | ......do | Do.
Danville, Village of, Knox County | 390308 | June 12, 1975, Emerg; August 24, 1984, Reg; July 7, 2009, Susp | ......do | Do.
Gambier, Village of, Knox County | 390310 | February 3, 1976, Emerg; January 30, 1981, Reg; July 7, 2009, Susp | ......do | Do.
Knox County, Unincorporated Areas | 390306 | NA, Emerg; October 27, 1993, Reg; July 7, 2009, Susp | ......do | Do.
Mount Vernon, City of, Knox County | 390311 | January 21, 1974, Emerg; August 2, 1982, Reg; July 7, 2009, Susp | ......do | Do.
Region X
Idaho:
Bannock County, Unincorporated Areas | 160009 | April 30, 1974, Emerg; September 5, 1979, Reg; July 7, 2009, Susp | ......do | Do.
Downey, City of, Bannock County | 160165 | February 8, 1985, Emerg; February 8, 1985, Reg; July 7, 2009, Susp | ......do | Do.
Inkom, City of, Bannock County | 160010 | July 16, 1975, Emerg; September 15, 1978, Reg; July 7, 2009, Susp | ......do | Do.
Lava Hot Springs, City of, Bannock County | 160011 | May 20, 1975, Emerg; August 1, 1979, Reg; July 7, 2009, Susp | ......do | Do.
McCammon, City of, Bannock County | 160176 | December 21, 1978, Emerg; December 21, 1978, Reg; July 7, 2009, Susp | ......do | Do.
Pocatello, City of, Bannock County | 160012 | February 7, 1974, Emerg; May 1, 1980, Reg; July 7, 2009, Susp | ......do | Do.
* -do- = Ditto.
Code for reading third column: Emerg.—Emergency; Reg.—Regular; Susp.—Suspension.

Dated: June 23, 2009.
Deborah Ingram,
Acting Deputy Assistant Administrator, Mitigation Directorate, Department of Homeland Security, Federal Emergency Management Agency.

[FR Doc. E9-15871 Filed 7-2-09; 8:45 am]

BILLING CODE 9110-12-P